DEPARTMENT OF ENERGY

Federal Energy Regulatory Commission

Combined Notice of Filings #1

Take notice that the Commission received the following electric corporate filings:

Docket Numbers: EC17-92-000.

Applicants: The Arklahoma Corporation, Entergy Arkansas, Inc., Oklahoma Gas and Electric Company, Southwestern Electric Power Company.

Description: Joint Application for Authorization for Disposition and Acquisition of Jurisdictional Transmission Facilities of the Arklahoma Corporation, et al.

Filed Date: 3/15/17.

Accession Number: 20170315-5193.

Comments Due: 5 p.m. ET 4/5/17.

Take notice that the Commission received the following electric rate filings:

Docket Numbers: ER14-225-004.

Applicants: New Brunswick Energy Marketing Corporation.

Description: Supplement to December 22, 2016 Triennial Market Power Update for the Northeast Region of New Brunswick Energy Marketing Corporation.

Filed Date: 3/15/17.

Accession Number: 20170315-5198.

Comments Due: 5 p.m. ET 4/5/17.

Docket Numbers: ER17-351-001; ER17-354-001.

Applicants: American Falls Solar, LLC, American Falls Solar II, LLC.

Description: Notice of Change in Status of American Falls Solar, LLC, et al.

Filed Date: 3/15/17.

Accession Number: 20170315-5204.

Comments Due: 5 p.m. ET 4/5/17.

Docket Numbers: ER17-1121-001.

Applicants: Midcontinent Independent System Operator, Inc.

Description: Tariff Amendment: 2017-03-16 SA 3006 Duke-Jordan Creek GIA (J515) to be effective 3/3/2017.

Filed Date: 3/16/17.

Accession Number: 20170316-5161.

Comments Due: 5 p.m. ET 4/6/17.

Docket Numbers: ER17-1220-000.

Applicants: Allegheny Energy Supply Company, LLC.

Description: § 205(d) Rate Filing: Amendment to Reactive Service Rate Schedule No. 2 to be effective 12/31/9998.

Filed Date: 3/16/17.

Accession Number: 20170316-5156.

Comments Due: 5 p.m. ET 4/6/17.

Docket Numbers: ER17-1221-000.

Applicants: NorthWestern Corporation.

Description: § 205(d) Rate Filing: Revisions to Attachment L—Creditworthiness Procedures to be effective 5/16/2017.

Filed Date: 3/16/17.

Accession Number: 20170316-5160.

Comments Due: 5 p.m. ET 4/6/17.

Docket Numbers: ER17-1222-000.

Applicants: California Independent System Operator Corporation.

Description: § 205(d) Rate Filing: 2017-03-16 Planning Coordinator Agreement with Southern California Edison to be effective 5/16/2017.

Filed Date: 3/16/17.

Accession Number: 20170316-5163.

Comments Due: 5 p.m. ET 4/6/17.

Docket Numbers: ER17-1224-000.

Applicants: Duke Energy Corporation.

Description: Duke Energy Corporation on behalf of the Duke Energy Companies submits Compliance Refund Report per 35.19a(b): [4/1/2016 Letter Order in PA14-2].

Filed Date: 3/13/17.

Accession Number: 20170313-5367.

Comments Due: 5 p.m. ET 4/3/17.

Docket Numbers: ER17-1226-000.

Applicants: Midcontinent Independent System Operator, Inc., Entergy Services, Inc.

Description: § 205(d) Rate Filing: 2017-03-17_Revisions to Entergy New Orleans (ENO) Attachment O to be effective 6/1/2017.

Filed Date: 3/17/17.

Accession Number: 20170317-5014.

Comments Due: 5 p.m. ET 4/7/17.

Docket Numbers: ER17-1227-000.

Applicants: Midcontinent Independent System Operator, Inc.

Description: § 205(d) Rate Filing: 2017-03-17_SA 6510 MISO-Cleco SSR Agreement for Teche 3 to be effective4/1/2017.

Filed Date: 3/17/17.

Accession Number: 20170317-5023.

Comments Due: 5 p.m. ET 4/7/17.

Docket Numbers: ER17-1228-000.

Applicants: Midcontinent Independent System Operator, Inc.

Description: § 205(d) Rate Filing: 2017-03-17_Submittal of Schedule 43J Teche Unit No. 3 SSR Cost Allocation to be effective 4/1/2017.

Filed Date: 3/17/17.

Accession Number: 20170317-5025.

Comments Due: 5 p.m. ET 4/7/17.

Docket Numbers: ER17-1231-000.

Applicants: Northern Indiana Public Service Company.

Description: § 205(d) Rate Filing: Filing of a CIAC Agreement to be effective 3/18/2017.

Filed Date: 3/17/17.

Accession Number: 20170317-5033.

Comments Due: 5 p.m. ET 4/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2017.
Nathaniel J. Davis, Sr.,
Deputy Secretary.

[FR Doc. 2017-05819 Filed 3-22-17; 8:45 am]

BILLING CODE 6717-01-P